FEDERAL RETIREMENT THRIFT INVESTMENT BOARD

Sunshine Act; Board Member Meeting

Time and Date: 8:30 a.m. (Eastern Time) June 27, 2016 (In-Person).

Place: 10th Floor Board Meeting Room, 77 K Street NE., Washington, DC 20002.

Status: Parts will be open to the public and part will be closed to the public.

Matters To Be Considered:

Open to the Public

1. Approval of the Minutes of the May 23, 2016 Joint Board Member/ETAC Meeting

2. Monthly Reports

(a) Participant Activity Report

(b) Investment Performance Report

(c) Legislative Report

3. Vendor Financials

Closed to the Public

Information covered under 5 U.S.C. 552b(c)(9)(B).

Contact Person for More Information: Kimberly Weaver, Director, Office of External Affairs, (202) 942-1640.

Dated: June 16, 2016.
Megan Grumbine,
General Counsel, Federal Retirement Thrift Investment Board.

[FR Doc. 2016-14591 Filed 6-16-16; 11:15 am]

BILLING CODE 6760-01-P